DEPARTMENT OF TRANSPORTATION

Federal Aviation Administration

14 CFR Part 71

[Docket No. FAA-2022-0922; Airspace Docket No. 22-ASO-15]

RIN 2120-AA66

Establishment of Class D Airspace and Amendment of Class E Airspace; Selma, AL

AGENCY: Federal Aviation Administration (FAA), DOT.

ACTION: Final rule; delay of the effective date.

SUMMARY: This action changes the effective date of a final rule published in the Federal Register on January 12, 2023 for Airspace Docket No. 22-ASO-15. In that rule, the effective date was inadvertently published as February 23, 2023. This action delays the effective date to April 20, 2023.

DATES: The effective date of the final rule published January 12, 2023 (88 FR 1987), is delayed to April 20, 2023.

FOR FURTHER INFORMATION CONTACT: John Fornito, Operations Support Group, Eastern Service Center, Federal Aviation Administration, 1701 Columbia Avenue, College Park, GA 30337; Telephone (404) 305-6364.

SUPPLEMENTARY INFORMATION:

History

The FAA published a final rule in the Federal Register (88 FR 1987, January 12, 2023) for Docket No. FAA-2022-0922 to establish Class D airspace and amend Class E airspace extending upward from 700 feet above the surface at Craig Field Airport, Selma, AL. In that rule, the effective date was inadvertently published as February 23, 2023. This action delays the effective date to April 20, 2023.

Delay of Effective Date

Accordingly, pursuant to the authority delegated to me, the effective date for Airspace Docket No. 22-ASO-15, as published in the Federal Register on January 12, 2023 (88 FR 1987), Airspace Docket No. 22-ASO-15, is hereby delayed from February 23, 2023, to April 20, 2023.

Authority: 49 U.S.C. 106(f), 106(g); 40103, 40113, 40120; E.O. 10854, 24 FR 9565, 3 CFR, 1959-1963 Comp., p. 389

Issued in College Park, Georgia, on February 15, 2023.
Andreese C. Davis,
Manager, Airspace & Procedures Team South, Eastern Service Center, Air Traffic Organization.

[FR Doc. 2023-03586 Filed 2-22-23; 8:45 am]

BILLING CODE 4910-13-P